DEPARTMENT OF HOUSING AND URBAN DEVELOPMENT

[Docket No. FR-5828-N-51]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert E. Moriarty, P.E., AFCEC/CI, 2261 Hughes Avenue, Ste. 155, JBSA Lackland, TX 78236-9853; AGRICULTURE: Ms. Debra Kerr, Department of Agriculture, Reporters Building, 300 7th Street SW., Room 300, Washington, DC 20024, (202) 720-8873; ARMY: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314; (202) 761-5542; ENERGY: Mr. David Steinau, Department of Energy, Office of Property Management, OECM MA-50, 4B122, 1000 Independence Ave. SW., Washington, DC 20585 (202) 287-1503; GSA: Mr. Flavio Peres, General Services Administration, Office of Real Property Utilization and Disposal, 1800 F Street NW., Room 7040, Washington, DC 20405, (202) 501-0084; NAVY: Mr. Steve Matteo, Department of the Navy, Asset Management; Division, Naval Facilities Engineering Command, Washington Navy Yard, 1330 Patterson Ave. SW., Suite 1000, Washington, DC 20374; (202) 685-9426; (These are not toll-free numbers).

Dated: December 10, 2015.
Brian P. Fitzmaurice,
Director, Division of Community Assistance, Office of Special Needs Assistance Programs.

TITLE V, FEDERAL SURPLUS PROPERTY PROGRAM FEDERAL REGISTER REPORT FOR 12/18/2015

Suitable/Available Properties

Building

Alabama

2 Buildings

Fort Rucker

Fort Rucker AL 36362

Landholding Agency: Army

Property Number: 21201540030

Status: Underutilized

Directions: 25107-RPUID: 576526 (2,721 SQ. FT.; Airfield Fire and Rescue Facility); 30305-RPUID: 250776 (4,422 SQ. FT.; Ready Bldg)

Comments: off-site removal only; no future agency need; removal extremely difficult due to type/size; fair conditions; contact Army for more information on a specific property listed above.

60110

SHELL AF, FORT RUCKER

Ft. Rucker AL 36330

Landholding Agency: Army

Property Number: 21201540032

Status: Underutilized

Comments: off-site removal only; no future agency need; extremely difficult to remove due to type/size; 8,319 SQ. FT.; ADMIN GEN PURP; 50% is occupied; poor conditions; contact Army for more information.

Arkansas

10′X24′ Concrete Floor & Slab

Roof

10299 Bay Ridge Dr.

Daradanelle AR 72834

Landholding Agency: COE

Property Number: 31201540003

Status: Underutilized

Comments: 240 sq. ft.; rec. facility (campground) restroom; fair conditions; contact COE for more information.

Georgia

Building 14

Camp Frank D. Merrill

Fort Benning GA 31905

Landholding Agency: Army

Property Number: 21201540052

Status: Unutilized

Comments: off-site removal only; 120 sq. ft.; 51+ yrs. old; veh. fuel mogas; poor conditions; contact Army for information.

Building 08638-RPUID 283107

Mortar Training Area

off Wildcat Road

Fort Benning GA 31905

Landholding Agency: Army

Property Number: 21201540053

Status: Unutilized

Comments: off-site removal only; 192 sq. ft.; 10+ yrs.-old; sep toil/shower; poor conditions; contact Army for more information.

Building 08728

3279 10th Armored Division Road

Fort Benning GA

Landholding Agency: Army

Property Number: 21201540054

Status: Unutilized

Comments: off-site removal only; 192 sq. ft.; 9+ yrs.-old; sep toil/shower; poor conditions; contact Army for more information.

North Carolina

3 Buildings

Fort Bragg

Ft. Bragg NC 28310

Landholding Agency: Army

Property Number: 21201540061

Status: Unutilized

Directions: Q3113-1034505 (64 sq. ft.); Q3414-1034511 (64 sq. ft.); Q2322-296150 (17 sq. ft.)

Comments: very poor conditions; contact Army for more information on a specific property listed above.

Oklahoma

6 Buildings

Fort Sill

Ft. Sill OK 73503

Landholding Agency: Army

Property Number: 21201540034

Status: Unutilized

Directions: 1500 (100 SQ. FT.; Fueling/POL/Wash Support Bldg); 1501 (9,802 SQ. FT.; Vehicle Maintenance Shop); 1502 (9,938 SQ. FT.; Vehicle Maintenance Shop); 1503 (10,190 SQ. FT.; Limited Use Instructional Bldg); 1521 (80 SQ. FT.; Oil Storage Building); 2590 (3,626 SQ. FT.; ADMIN GENERAL PURPOSE)

Comments: off-site removal only; no future agency need; removal difficult due to type/size;6+ mons.vacant; contamination; contact Army for more information on a specific property listed above.

Puerto Rico

2 Buildings

USAG Fort Buchanan RQ327

Fort Buchanan PR 00934

Landholding Agency: Army

Property Number: 21201540057

Status: Excess

Directions: 01024 (300 sq. ft.; storage); 01026 (300 sq. ft.; storage)

Comments: off-site removal only; poor conditions; contact Army for more information on a property listed above.

Tennessee

3 Buildings

Fort Campbell

Ft. Campbrll TN

Landholding Agency: Army

Property Number: 21201540017

Status: Unutilized

Directions: 6995 (RPUID: 594789; 3,687 SQ. FT.; OFFICE); 07825 (RPUID: 590376; 15,111 SQ. FT.; Ammo Repair); A6924 (RPUID: 598990; 3,688 SQ. FT.; OFFICE)

Comments: fair to poor conditions; asbestos present; contact Army for more information on a specific property listed above.

Texas

90005; RPUID: 285770

Clarke Road

Fort Hood TX

Landholding Agency: Army

Property Number: 21201540012

Status: Excess

Comments: off-site removal only; removal extremely difficult due to type; 181 sq. ft.; Navigation Building, Air; contact Army for more information.

27000

67TH STREET

Fort Hood TX 76544

Landholding Agency: Army

Property Number: 21201540020

Status: Unutilized

Comments: off-site removal only; no future agency need; 284 sq. ft.; TERM EQUIP BLDG; 1+ month vacant; ASBESTOS; contact Army for more information.

92044; RPUID: 286348

Loop Road

Fort Hood TX 76544

Landholding Agency: Army

Property Number: 21201540021

Status: Excess

Comments: off-site removal only; removal extremely difficult due to type/size; 1,920 SQ. FT.; Admin General Purpose; lead and asbestos contamination; contact Army for more information.

1348 (RPUID: 313187)

North Avenue

Fort Hood TX 76544

Landholding Agency: Army

Property Number: 21201540022

Status: Excess

Comments: off-site removal only; 654 sq. ft; Admin General Purpose; fair/moderate conditions; Asbestos located in Building caulking and putties; contact Army for more information.

86000

BATTALION AVE

Fort Hood TX 76544

Landholding Agency: Army

Property Number: 21201540023

Status: Unutilized

Comments: off-site removal only; no future agency need; 284 sq. ft.; TERM EQUIP BLDG; 1+ month vacant; ASBESTOS; contact Army for more information.

4496

WAREHOUSE AVE.

Fort Hood TX 76544

Landholding Agency: Army

Property Number: 21201540024

Status: Unutilized

Comments: off-site removal only; 284 sq. ft; TERM EQUIP BLDG; 1+ month vacant; fair/moderate conditions; ASBESTOS; contact Army for more information; no future agency need.

91003; RPUID: 286087

West Headquarters Avenue

Fort Hood TX 76544

Landholding Agency: Army

Property Number: 21201540025

Status: Excess

Comments: off-site removal only; removal extremely difficult due to type; 325 sq. ft.; Storage General Purpose; possible lead and asbestos contamination; contact Army for more information.

36017; RPUID: 174093

Wratten Drive

Fort Hood TX 76544

Landholding Agency: Army

Property Number: 21201540027

Status: Excess

Comments: off-site removal only; removal extremely difficult due to type/size; 2,400 sq. ft.; Laboratory; contact Army for more information.

12000

OLD IRONSIDES RD

Fort Hood TX 76544

Landholding Agency: Army

Property Number: 21201540028

Status: Unutilized

Comments: off-site removal only; no future agency need; 284 sq. ft.; TERM EQUIP BLDG; 1+ month vacant; ASBESTOS; contact Army for more information.

Virginia

2 Buildings

Lee Blvd.

Fort Eustis VA 23604

Landholding Agency: Air Force

Property Number: 18201540029

Status: Unutilized

Directions: 822 (205 sq. ft.); 876 (651 sq. ft.)

Comments: off-site removal only; no future agency need; removal difficult due to type/condition; very poor conditions; contact Air Force for more information.

2 Buildings

Mulberry Island Rd.

Fort Eustis VA 23604

Landholding Agency: Air Force

Property Number: 18201540030

Status: Unutilized

Directions: 3511 (437 sq. ft.); 3913 (767 sq. ft.)

Comments: off-site removal only; no future agency need; removal difficult due to type/condition; very poor conditions; contact Air Force for more information.

Land

Nebraska

P-4 GHUA

1419 Hwy 19

Sidney NE 82081

Landholding Agency: Air Force

Property Number: 18201540031

Status: Unutilized

Comments: 1 acre; launch facility in ground; contact Air Force for more information.

Texas

Fee Purchase Land-99201

Eldorado AFS

Eldorado TX 76936

Landholding Agency: Air Force

Property Number: 18201540009

Status: Excess

Comments: 119 acres; 192+ months vacant; contact Air Force for more information.

Wyoming

11 Plots of Land

Diamond/Iron Mountain Rd.

Chugwater WY 82210

Landholding Agency: Air Force

Property Number: 18201540013

Status: Unutilized

Directions: Q-10 GHYT; Q-9 GHYS; Q-11 GHYU; Q-8 GHYR; Q-2 GHYK; Q-3 GHYL; Q-4 GHYM; Q-5 GHYN; P-11 GHYH; P-10 GHYG; P-9 GHYF

Comments: 1 acre each; contact Air Force for more information on a specific plot of land.

9 Plots of Land

Air Force

Lagrange/Chugwater WY 82221

Landholding Agency: Air Force

Property Number: 18201540014

Status: Unutilized

Directions: R-02 GHYW; R-04 GHWX; R-05 GHYZ; R-06 GHZA; R-07 GHZA; R-08 GHZC; R-09 GHZD; R-10 GHZE; R-11 GHZF

Comments: 1 acre each; contact Air Force for more information on a specific plot of land.

2 Plots of Land

Hilldale

Hilldale WY 82060

Landholding Agency: Air Force

Property Number: 18201540015

Status: Unutilized

Directions: P-5 GHYB; P-7 GHYD

Comments: 1 acre each; contact Air Force for more information on a specific plot of land.

Q-7 GHYQ

1603 Rd. 237

Carpenter WY 82054

Landholding Agency: Air Force

Property Number: 18201540016

Status: Unutilized

Comments: 1 acre; contact Air Force for more information.

3 Plots of Land

Meriden

Meriden WY 82081

Landholding Agency: Air Force

Property Number: 18201540017

Status: Unutilized

Directions: P-6 GHYC; P-Z GHXY; P-3 GHYZ

Comments: 1 acre each; contact Air Force for more information on a specific plot of land.

Q-6 GHYP AND P-8 GHYE

1381 Rd. 228

Cheyenne WY 82002

Landholding Agency: Air Force

Property Number: 18201540018

Status: Unutilized

Comments: 1 acre each; contact Air Force for more information on a specific plot of land.

2 Plots of Land

Air Force

Huntley WY 82218

Landholding Agency: Air Force

Property Number: 18201540019

Status: Unutilized

Directions: S-4 GHZK; S-5 GHZL

Comments: 1 acre each; contact Air Force for more information on a specific plot of land.

S-2 GHZG

6291 Rd. 47

Torrington WY 82240

Landholding Agency: Air Force

Property Number: 18201540020

Status: Unutilized

Comments: 1 acre; contact Air Force for more information.

3 Plots of Land

Air Force

Hawk Springs WY 82217

Landholding Agency: Air Force

Property Number: 18201540021

Status: Unutilized

Directions: S-8 GHZP; S-7 GHZN; S-6 GHZM

Comments: 1 acre each; contact Air Force for more information on a specific plot of land.

2 Plots of Land

Deer Creek Dr.

Wheatland WY 82201

Landholding Agency: Air Force

Property Number: 18201540022

Status: Unutilized

Directions: T-2 GHZU; T-3 GHZV

Comments: 1 acre each; contact Air Force for more information on a specific plot of land.

2 Plots of Land

Dickerson Rd.

Brodeaux WY 82201

Landholding Agency: Air Force

Property Number: 18201540023

Status: Unutilized

Directions: T-4 GHZW; T-9 GJAB

Comments: 1 acre each; contact Air Force for more information on a specific plot of land.

T-5 GHZX and T-6 GHZY

387 Slater Rd.

Slater WY 82201

Landholding Agency: Air Force

Property Number: 18201540024

Status: Unutilized

Comments: 1 acre each; contact Air Force for more information on a specific plot of land.

2 Plots of Land

Slater Rd.

Slater WY 82201

Landholding Agency: Air Force

Property Number: 18201540025

Status: Unutilized

Directions: T-7 GHZZ; T-8 GJAA

Comments: 1 acre each; contact Air Force for more information on a specific plot of land.

2 Plots of Land

Snook/Grayrocks Rd.

Wheatland WY 82201

Landholding Agency: Air Force

Property Number: 18201540026

Status: Unutilized

Directions: T-10 GJAC; T-11 GJAD

Comments: 1 acre each; contact Air Force for more information on a specific plot of land.

2 Plots of Land

State Hwy

Veteran WY 82243

Landholding Agency: Air Force

Property Number: 18201540027

Status: Unutilized

Directions: S-10 GHZR; S-11 GHZS

Comments: 1 acre each; contact Air Force for more information on a specific plot of land.

2 Plots of Land

ST STE Hwy

Yoder WY 82244

Landholding Agency: Air Force

Property Number: 18201540028

Status: Unutilized

Directions: S-3 GHZJ; S-9 GHEQ

Comments: 1 acre each; contact Air Force for more information on a specific plot of land.

Unsuitable Properties

Building

Alaska

Building 2092

Kinney Rd.

Fort Wainwright AK 99703

Landholding Agency: Army

Property Number: 21201540005

Status: Underutilized

Comments: located w/in floodway which has not been corrected or contained; public access denied and no alternative method to gain access without compromising national security.

Reasons: Secured Area; Floodway

Arkansas

4 Buildings

Little Rock AFB

Little Rock AR 72099

Landholding Agency: Air Force

Property Number: 18201540001

Status: Underutilized

Directions: B-222; B1502; B-2905; B-1500

Comments: public access denied and no alternative method to gain access without compromising national security.

Reasons: Secured Area

11 Buildings

Little Rock AFB

Little Rock AR 72099

Landholding Agency: Air Force

Property Number: 18201540011

Status: Unutilized

Directions: 1432; 1439; 1437; 1435; 1431; 1420; 1418; 1417; 1416; 1415; 1389

Comments: public access denied and no alternative method to gain access without compromising national security.

Reasons: Secured Area

16340

Fleming Drive

Pine Bluff Arsenal AR 71602

Landholding Agency: Army

Property Number: 21201540035

Status: Unutilized

Comments: public access denied and no alternative method to gain access without compromising national security.

Reasons: Secured Area

California

Bldg. 480

500 Crissy St.

Travis AFB CA 94535

Landholding Agency: Air Force

Property Number: 18201540008

Status: Unutilized

Comments: public access denied and no alternative methods to gain access without compromising national security.

Reasons: Secured Area

Colorado

7 Buildings

Fort Carson

Fort Carson CO 80902

Landholding Agency: Army

Property Number: 21201540018

Status: Unutilized

Directions: 5557 (RPUID: 591785); 5559 (RPUID: 596873); 5561 (RPUID: 601301); 5563 (RPUID: 577607); 5565 (RPUID: 593788); 5567 (RPUID: 591786); 5569 (RPUID: 591787)

Comments: (Property located within floodway which has not been correct or contained).

Reasons: Floodway

12 Buildings

Fort Carson

Ft. Carson CO 80902

Landholding Agency: Army

Property Number: 21201540019

Status: Unutilized

Directions: 5540 (RPUID: 610022); 5541 (RPUID: 586846); 5542 (RPUID: 616626); 5543 (RPUID: 598076); 5544 (RPUID:567013); 5545 (RPUID:596871); 5546 (RPUID: 593098); 5547 (RPUID: 616627); 5549 (RPUID: 616627); 5551 (RPUID: 596872); 5553 (RPUID: 606097); 5555 (RPUID: 606639)

Comments: (Property located within floodway which has not been correct or contained).

Reasons: Floodway

Florida

Building 1053

7416 MacDill Ave.

MacDill AFB

Tampa FL 33621

Landholding Agency: Air Force

Property Number: 18201540005

Status: Unutilized

Comments: public access denied and no alternative method to gain access without compromising national security.

Reasons: Secured Area

Georgia

Facility 21

145 Beale Dr.

Robins AFB GA 31098

Landholding Agency: Air Force

Property Number: 18201540033

Status: Unutilized

Comments: public access denied and no alternative method to gain access without compromising national security.

Reasons: Secured Area

Illinois

Building 5713

2221 East Dr.

Scott AFB IL 62225

Landholding Agency: Air Force

Property Number: 18201540007

Status: Unutilized

Comments: public access denied and no alternative method to gain access without compromising national security.

Reasons: Secured Area

2 Buildings

Rock Island Arsenal

Rock Island IL 61299

Landholding Agency: Army

Property Number: 21201540041

Status: Underutilized

Directions: 215-RPUID: 366364; 215B-PUID: 1170018

Comments: public access denied and no alternative to gain access without compromising national security.

Reasons: Secured Area

Maryland

4 Buildings

Aberdeen Proving Ground

Aberdeen Proving Grou MD 21005

Landholding Agency: Army

Property Number: 21201540006

Status: Unutilized

Directions: 530-RPUID: 232987; 00502-RPUID:231120; 00504-RPUID: 231122; 00507-RPUID:231124

Comments: public access denied and no alternative method to gain access without compromising national security.

Reasons: Secured Area

10 Buildings

Aberdeen Proving Ground

Aberdeen Proving Grou MD 21005

Landholding Agency: Army

Property Number: 21201540008

Status: Unutilized

Directions: E2499-RPUID: 1115220; 248-RPUID: 233131; 324-RPUID: 233380; 00325-RPUID: 233381; 335-RPUID: 233389; 00336-RPUID: 233390; 00342-RPUID: 233396; 00343-RPUID: 233397; 00501-RPUID: 21119; 00503-RPUID: 231121

Comments: public access denied and no alternative method to gain access without compromising national security.

Reasons: Secured Area

10 Buildings

Aberdeen Proving Ground

Aberdeen Proving Grou MD 21005

Landholding Agency: Army

Property Number: 21201540009

Status: Unutilized

Directions: 1100A-RPUID: 232502; 5112-RPUID: 231874; E1426-RPUID: 230361; E2144-RPUID: 231462; E2180-RPUID: 231474; E2200-RPUID: 236777; E3100-RPUID: 229840; E3240-RPUID: 225691; E3245-RPUID: 1233661; E5027-RPUID: 235043

Comments: public access denied and no alternative method to gain access without compromising national security.

Reasons: Secured Area

10 Buildings

Aberdeen Proving Ground

Aberdeen MD 21005

Landholding Agency: Army

Property Number: 21201540010

Status: Unutilized

Directions: 00320-RPUID: 233377; 00534-RPUID: 232990; 00894-RPUID: 229860; 01096-RPUID: 230735; 2352-RPUID: 232067; 4314-RPUID: 230781; 00938-RPUID: 229876; E1932-RPUID: 231449; E1942-RPUID: 230062; 00535-RPUID: 232991

Comments: public access denied and no alternative method to gain access without compromising national security.

Reasons: Secured Area

10 Buildings

Aberdeen Proving Ground

Aberdeen Proving Grou MD 21005

Landholding Agency: Army

Property Number: 21201540011

Status: Unutilized

Directions: E5032-RPUID: 981051; E5060-RPUID: 235049; E5140-RPUID: 235827; E5172-RPUID: 235834; E5173-RPUID: 235835; E5244-RPUID: 235853; E5352-RPUID: 236079; E5429-RPUID: 236092; E5826-RPUID: 237105; E7987-RPUID: 234070

Comments: public access denied and no alternative method to gain access without compromising national security.

Reasons: Secured Area

3 Buildings

Fort Detrick, Forest Glen

Annex; Stephen Sitter Avenue

Fort Detrick MD 20901

Landholding Agency: Army

Property Number: 21201540014

Status: Unutilized

Directions: 00152; 00156; 0175A

Comments: public access denied and no alternative method to gain access without compromising national security.

Reasons: Secured Area

10 Buildings

Aberdeen Proving Ground

Aberdeen Proving Grou MD 21005

Landholding Agency: Army

Property Number: 21201540043

Status: Underutilized

Directions: E2162-RPUID: 231464; E2166-RPUID: 231465; E2182-RPUID: 231475; E2188-RPUID: 236771; E2194-RPUID: 236773; E2198-RPUID: 236776; E5061-RPUID: 235050; E5101-RPUID: 230074; E5842-RPUID: 237111; E5844-RPUID: 237112

Comments: public access denied and no alternative method to gain access without compromising national security.

Reasons: Secured Area

8 Buildings

Aberdeen Providing Ground

Aberdeen Providing Gr MD 21005

Landholding Agency: Army

Property Number: 21201540044

Status: Unutilized

Directions: E5848-RPUID: 237114; E5860-RPUID: 237116; E5862-RPUID: 237117; E5884-RPUID: 237129; E5886-RPUID: 237130; E5892-RPUID: 237888; E5894-RPUID: 237889; E5896-RPUID: 237890

Comments: public access denied and no alternative method to gain access without compromising national security.

Reasons: Secured Area

Building 00922

922 Live Fire Lane

Aberdeen Proving Grou MD 21005

Landholding Agency: Army

Property Number: 21201540045

Status: Unutilized

Comments: public access denied and no alternative method to gain access without compromising national security.

Reasons: Secured Area

Michigan

Building 835

Fitness Facility/Thrift

43515 n. Jefferson Ave.

Selfridge ANGB MI 48045

Landholding Agency: Air Force

Property Number: 18201540034

Status: Unutilized

Comments: public access denied and no alternative method to gain access without compromising national security.

Reasons: Secured Area

Missouri

9 Buildings

Fort Leonard Wood

Ft. Leonard Wood MO

Landholding Agency: Army

Property Number: 21201540058

Status: Unutilized

Directions: 682-RPUID: 575534; 683-RPUID: 581273; 781-RPUID: 593764; 887-RPUID: 593487; 2307-RPUID: 573663; 2341-RPUID: 597115; 4199-RPUID: 579050; 5027-RPUID: 595346; 5167-RPUID: 593968

Comments: public access denied and no alternative method to gain access without compromising national security.

Reasons: Secured Area

9 Buildings

Fort Leonard Wood

Fort Leonard Wood MO

Landholding Agency: Army

Property Number: 21201540059

Status: Unutilized

Directions: 5279-RPUID: 618544; 5422-RPUID: 598786; 5426-RPUID: 618281; 5432-RPUID: 615691; 5442-RPUID: 582917;5452-RPUID: 587677;5502-RPUID: 606152; 5584-RPUID: 582723; 5733-RPUID: 594089

Comments: public access denied and no alternative method to gain access without compromising national security.

Reasons: Secured Area

2 Buildings

Fort Leonard Wood

Fort Leonard Wood MO

Landholding Agency: Army

Property Number: 21201540060

Status: Unutilized

Directions: 12652-RPUID:607957; 668

Comments: public access denied and no alternative method to gain access without compromising national security.

Reasons: Secured Area

Nebraska

Bldg. 382

605 Nelson Dr.

Offutt NE 68113

Landholding Agency: Air Force

Property Number: 18201540004

Status: Unutilized

Comments: public access denied and no alternative method to gain access without compromising national security.

Reasons: Secured Area

Nevada

2 Buildings

Hawthorne Army depot

Hawthorne Army Depot NV

Landholding Agency: Army

Property Number: 21201540040

Status: Unutilized

Directions: 0C261-RPUID: 330817; 10341-RPUID: 319518

Comments: flam/explos. materials are located on adjacent industrial, commercial, or Federal facility; public access denied and no alternative method to gain access without compromising national security.

Reasons: Secured Area;Within 2000 ft. of flammable or explosive material

New Jersey

12 Buildings

JBML

JBML NJ 08640

Landholding Agency: Air Force

Property Number: 18201540006

Status: Unutilized

Directions: 94281; 94631; 90451; 9078; 9000; 9214; 9159; 9479; 9469; 9853; 9823; 9841

Comments: public access denied and no alternative method to gain access without compromising national security.

Reasons: Secured Area

New Mexico

Building 150

Cannon AFB

Cannon NM 88103

Landholding Agency: Air Force

Property Number: 18201540010

Status: Underutilized

Comments: public access denied and no alternative method to gain access without compromising national security.

Reasons: Secured Area

New York

12 Buildings

Fort Drum

Ft. Drum NY 13602

Landholding Agency: Army

Property Number: 21201540015

Status: Unutilized

Directions: BRK11 (RPUID: 1193675); BRK12 (RPUID: 1193672); BRK13 (RPUID: 1193812); BRK14 (RPUID: 1193815); BRK15 (RPUID: 1193814); BRK16 (RPUID: 1193816); BRK17 (RPUID: 1193813); BRK18 (RPUID: 1193850); BRK19 (RPUID: 1193852); BRK20 (RPUID: 1193851); BRK21 (RPUID: 1193854); BRK22 (RPUID: 1193853)

Comments: property located within an airport runway clear zone or military airfield; Public access denied and no alternative method to gain access without compromising national security.

Reasons: Within airport runway clear zone; Secured Area

3 Buildings

Fort Drum

Ft. Drum NY 13602

Landholding Agency: Army

Property Number: 21201540016

Status: Unutilized

Directions: BRK23 (RPUID: 1193853); BRK24 (RPUID: 1193884); BRK25 (RPUID: 1193885)

Comments: public access denied and no alternative method to gain access without compromising national security.

Reasons: Secured Area

1236

US Army Garrison, West Point

West Point NY 10996

Landholding Agency: Army

Property Number: 21201540033

Status: Unutilized

Comments: document deficiencies: condemned; ceilings, walls, flooring, doors, and windows are rotted and beyond repair; wood deteriorated to state of non-repair; clear threat to physical safety.

Reasons: Extensive deterioration

10 Buildings

Fort Drum

Ft. Drum NY 13602

Landholding Agency: Army

Property Number: 21201540055

Status: Unutilized

Directions: BRK01 (RPUID: 1193186); BRK02 (RPUID: 1193187) BRK03 (RPUID: 1193237); BRK04 (RPUID: 1193238); BRK05 (RPUID: 1193240); BRK06 (RPUID: 1193239); BRK07 (RPUID: 1193241); BRK08 (RPUID: 1193669); BRK09 (RPUID: 1193674); BRK10 (RPUID: 1193671)

Comments: public access denied and no alternative method to gain access without compromising national security.

Reasons: Secured Area

North Carolina

27 Buildings

Fort Bragg

Cumberland NC 28310

Landholding Agency: Army

Property Number: 21201540002

Status: Unutilized

Directions: 15132-RPUID: 581224; M6460-RPUID: 610295; M2348-RPUID: 958708; E4325-RPUID: 613768; A5428-RPUID: 597133; M6146-RPUID: 597164; M6143-RPUID: 576307; M2646-RPUID: 958720; M6445-RPUID: 595599; M2360-RPUID: 958714; M6438-RPUID: 557152; M6450-RPUID: 577153; M6733-RPUID: 609986; M6746-RPUID: 571513; M6751-RPUID: 584516; M2359-RPUID: 958713;A5628-RPUID: 581440; M6433-RPUID: 590748;A5630-RPUID: 593150; M2357-RPUID: 958713; M2338-RPUID: 958304; M2340-RPUID: 958305; M2342-RPUID: 958704; M2343-RPUID: 958705; M2345-RPUID: 958706; M2350-RPUID: 958709; M2351-RPUID: 958710

Comments: public access denied and no alternative method to gain access without compromising national security.

Reasons: Secured Area

5 Buildings

Fort Bragg

Fort Bragg NC 28310

Landholding Agency: Army

Property Number: 21201540003

Status: Underutilized

Directions: 15433-RPUID: 1034408; 15533-RPUID: 1034409; 15631-RPUID: 607469; 15730-RPUID: 297551; F1231-RPUID: 575616

Comments: public access denied and no alternative method to gain access without compromising national security.

Reasons: Secured Area

20 Buildings

Fort Bragg

Cumberland NC 28310

Landholding Agency: Army

Property Number: 21201540004

Status: Underutilized

Directions: 85303; A3764; D3022; H3237; H3554; M2346; M2353; M2356; M2505; M2642; M2650; M2651; M2653; M5051; M6142; M6205; M6150; P2341; X6088; M2640

Comments: public access denied and no alternative method to gain access without compromising national security.

Reasons: Secured Area

Pennsylvania

S2705 & S2706

Letterkenny Army Depot

Letterkenny Army Depo PA 17201

Landholding Agency: Army

Property Number: 21201540031

Status: Unutilized

Comments: public access denied and no alternative method to gain access without compromising national security.

Reasons: Secured Area

Puerto Rico

29 Buildings

Victory Road; USAG FORT BUCHANAN, RQ327

Fort Buchanan PR 00934

Landholding Agency: Army

Property Number: 21201540013

Status: Excess

Directions: 01029; 01030; 01031; 01032; 01033; 01034; 01035; 01036; 01037; 01038; 01039; 01040; 01041; 01042; 01043; 01044; 01046; 01047; 01048; 01049; 01050; 01051; 01052; 01054; 01055; 01056; 01057; 01058; 01061

Comments: public access denied and no alternative method to gain access without compromising national security.

Reasons: Secured Area

Building 00215

Fort Allen Training Center

Rd. #1

Juan Diaz PR 00795

Landholding Agency: Army

Property Number: 21201540049

Status: Unutilized

Comments: documented deficiencies: condemned due to a fault in the structural integrity; foundation instability and deterioration the walls and ceilings have fallen.

Reasons: Extensive deterioration

3 Buildings

Camp Santiago Trng Center

(RQ577)

Salinas PR 00751

Landholding Agency: Army

Property Number: 21201540050

Status: Unutilized

Directions: 00415-RPUID: 951222; 00416; 00414

Comments: documented deficiencies: condemned; due to structural integrity walls and foundation are cracked.

Reasons: Extensive deterioration

Texas

Pick up Truck Storage Shed 9

620900B009; USDA/ARS

Bushland TX 70912

Landholding Agency: Agriculture

Property Number: 15201540004

Status: Underutilized

Directions: PO Drawer 10,23000 Experiment Station Dr.

Comments: documented deficiencies: significantly deteriorated due to rotten framing and holes in structure.

Reasons: Extensive deterioration

10649

Sheppard AFB

Sheppard TX 76311

Landholding Agency: Air Force

Property Number: 18201540002

Status: Underutilized

Comments: public access denied and no alternative method to gain access without compromising national security.

Reasons: Secured Area

B4493

Sheppard AFB

Sheppard TX 76311

Landholding Agency: Air Force

Property Number: 18201540003

Status: Underutilized

Comments: documented deficiencies: partially collapsing; unsound foundation; public access denied and no alternative method to gain access without compromising national security.

Reasons: Secured Area Extensive deterioration

9111; RPUID: 180441

Hell on Wheels Avenue

Fort Hood TX 76544

Landholding Agency: Army

Property Number: 21201540026

Status: Excess

Comments: documented deficiencies: property has holes in the structure that most likely will result in collapse if removed off-site; clear threat to physical safety.

Reasons: Extensive deterioration

16 Buildings

Fort Bliss

El Paso TX 79916

Landholding Agency: Army

Property Number: 21201540051

Status: Unutilized

Directions: 03682; 03693; 05041; 05043; 05044; 05045; 07013; 07021; 09495; 09683; 11269; 11519; 11520; 11626; 11660; 11682

Comments: public access denied and no alternative method to gain access without compromising national security.

Reasons: Secured Area

Building 1736

Naval Air Station; 547 5th Street

Corpus Christi TX 78419

Landholding Agency: Navy

Property Number: 77201540014

Status: Unutilized

Comments: public access denied and no alternative method to gain access without compromising national security.

Reasons: Secured Area

Utah

16 Buildings

DUGWAY PROVING GROUND

DUGWAY PROVING GROUND UT 84022

Landholding Agency: Army

Property Number: 21201540036

Status: Underutilized

Directions: 00001-RPUID: 570563; 00003-RPUID: 588352; 00005-RPUID: 588352; 00007-RPUID: 611072; 00011-RPUID: 614435; 00020-RPUID: 611287; 00021-RPUID: 614434; 00022-RPUID: 570464; 00023-RPUID: 599972; 00024-RPUID: 575282; 00025-RPUID: 586999; 00027-RPUID: 570566; 00029-RPUID: 587000; 00031-618225;33-RPUID: 599973; 37-RPUID: 587002

Comments: public access denied and no alternative method to gain access without compromising national security.

Reasons: Secured Area

20 Buildings

DUGWAY PROVING GROUND

DUGWAY PROVING GROUND UT 84022

Landholding Agency: Army

Property Number: 21201540037

Status: Underutilized

Directions: 00154-598832; 00156-595717; 00158-574114; 00162-603757; 00163-574115; 00164-585779; 00167-595718; 00171-586937; 00173-607725; 00175-574117; 00177-603576; 00180-575781; 00181-575670; 00183-574119; 00185-598833; 00186-595719; 00187-609946; 00197-609948; 00198-579166; 00201-600412

Comments: public access denied and no alternative method to gain access without compromising national security.

Reasons: Secured Area

20 Buildings

DUGWAY PROVING GROUND

DUGWAY PROVING GROUND UT 84022

Landholding Agency: Army

Property Number: 21201540038

Status: Underutilized

Directions: 00205-609949; 00209-602438; 00256-583679; 00303-600093; 00306-616070; 00313-590335; 00321-587745; 00325-583680; 00329-573173; 00351-579174; 00361-600095;5236-581055; 05362-579151; 05363-576303; 05367-573490; 05375-575942; 05381-578690; 05382-583591; 05383-599699; 05390-604657

Comments: public access denied and no alternative method to gain access without compromising national security.

Reasons: Secured Area

14 Buildings

DUGWAY PROVING GROUND

DUGWAY PROVING GROUND UT 84022

Landholding Agency: Army

Property Number: 21201540039

Status: Underutilized

Directions: 00069-RPUID: 599975; 00093-RPUID: 618228; 00152-RPUID: 621801; 00103-RPUID: 587003; 00107-RPUID: 611292; 00113-RPUID: 605404; 00118-RPUID: 590378; 00119-RPUID: 606737; 00123-RPUID: 577667; 00125-RPUID: 577668; 00127-RPUID: 607723; 00129-RPUID: 574112; 00131-RPUID: 577669; 00140-RPUID: 606738

Comments: public access denied and no alternative method to gain access without compromising national security.

Reasons: Secured Area

Virginia

06217

Fort Lee

Ft. Lee VA 23801

Landholding Agency: Army

Property Number: 21201540029

Status: Unutilized

Comments: public access denied and no alternative method to gain access without compromising national security.

Reasons: Secured Area

1555A

Radford Army Ammunition

Plant; Rte. 114 P.O. Box 2

Radford VA 24143

Landholding Agency: Army

Property Number: 21201540042

Status: Unutilized

Comments: public access denied and no alternative method to gain access without compromising national security.

Reasons: Secured Area

West Virginia

Building 11

3610 Collins Ferry Rd.

Morgantown WV 26507

Landholding Agency: Energy

Property Number: 41201540003

Status: Excess

Comments: public access denied and no alternative method to gain access without compromising national security.

Reasons: Secured Area

Land

Alaska

Aucke Bay Marine Station

11305 Glacier Hwy

Juneau AK 99801

Landholding Agency: GSA

Property Number: 54201540016

Status: Excess

GSA Number: 9-C-AK-0855

Directions:

Landholding Agency: NOAA; Disposal Agency: GSA

Comments: military (Coast Guard) use only; public access denied and no alternative method to gain access without compromising national security.

Reasons: Secured Area

Arkansas

60 Acres

Harris Rd.

Little Rock AR 72099

Landholding Agency: Air Force

Property Number: 18201540012

Status: Unutilized

Comments: located w/in floodway which has not been corrected or contained; public access denied and no alternative method to gain access without compromising national security.

Reasons: Floodway; Secured Area

Georgia

Facility 7525

145 Beale Dr.

Robins AFB GA 31098

Landholding Agency: Air Force

Property Number: 18201540032

Status: Unutilized

Comments: public access denied and no alternative method to gain access without compromising national security.

Reasons: Secured Area

Maryland

4 Concrete Pads

Aberdeen Proving Ground

Aberdeen MD 21005

Landholding Agency: Army

Property Number: 21201540056

Status: Unutilized

Directions: E3176-981045; E5335-981052; E5628-996138; E7226-981063

Comments: public access denied and no alternative method to gain access without compromising national security.

Reasons: Secured Area

[FR Doc. 2015-31504 Filed 12-17-15; 8:45 am]

BILLING CODE 4210-67-P